DEPARTMENT OF AGRICULTURE

National Institute of Food and Agriculture

Solicitation of Input From Stakeholders on the Federally Recognized Tribes Extension Program—FRTEP

AGENCY: National Institute of Food and Agriculture, USDA.

ACTION: Request for written stakeholder input.

SUMMARY: The National Institute of Food and Agriculture (NIFA) is requesting written stakeholder input on the Federally Recognized Tribes Extension Program (FRTEP).

The purpose of this Notice is to assist NIFA in developing the FY 2021 Request for Applications for the Federally Recognized Tribes Extension Program. NIFA plans to consider all stakeholder input received in response to this Notice.

DATES: Written comments on this Notice must be received by February 15, 2020, to be assured of consideration. Comments received after that date will be considered to the extent practicable.

ADDRESSES: You may submit comments, identified by NIFA-2020-0001, through the Federal eRulemaking Portal: http://www.regulations.gov. Follow the instructions for submitting comments. Include NIFA-2020-0001 in the subject line of the message.

Instructions: All submissions received must include the Title, “Federally Recognized Tribes Extension Program” and NIFA-2020-0001. All comments received will be posted to http://www.regulations.gov, including any personal information provided.

FOR FURTHER INFORMATION CONTACT: Erin Riley 816-926-2131 (phone), erin.riles@usda.gov.

SUPPLEMENTARY INFORMATION: The program is authorized under Section 3(d) of the Act of May 8, 1914, Smith-Lever Act, ch. 79, 38, Stat. 372, 7 U.S.C. 341 et seq. Section 7609 of the Agriculture Improvement Act of 2018 (Pub. L. 115-334) amended section 3(d) of the Smith-Lever Act to allow 1994 Land-grant Institutions eligibility to receive FRTEP grant funds.

Background and Summary: Section 7609 of the Agriculture Improvement Act of 2018 added 1994 Land-grant Institutions as eligible to receive Smith-Lever 3(d) funding, including grants under the Federally Recognized Tribes Extension Program (FRTEP).

Previously, only 1862 and 1890 Land-grant Institutions were eligible to receive FRTEP grants. The grant competition for FRTEP is run every four years, and a new competition is scheduled for fiscal year (FY) 2021. NIFA is using this opportunity to gather stakeholder feedback for the next open competition in FY 2021.

The purpose of this program is to establish an Extension presence and support Extension outreach on Federally Recognized Indian Reservations and Tribal jurisdictions of Federally Recognized Tribes. FRTEP seeks to continue the Land Grant mission of inclusion by providing education and research-based knowledge to those who might not otherwise receive it.

Program Priorities Have Included:

a. Tribal Youth and 4-H

b. Indian Farmer and Rancher Productivity and Management

c. Indian Community Development:

• Economic and Workforce Development

• Food Systems, Farm and Community Markets

• Natural Resource Conservation and Adaptation to Environmental Changes

• Human Nutrition and Reduction of Childhood and Adolescent Obesity

• Indian Cultural and Language Preservation

Effective Extension involves identifying and attracting funds and resources to support an ever-changing and growing portfolio of activities in response to identified community needs. As a result, it is understood that applicants will work towards a comprehensive Extension plan and engage in both direct and indirect activities in support of their proposed programs. Examples of funded direct program activities include, but are not limited to, needs assessments, educational workshops, site visits, producer demonstration projects and cultural-learning events. Funded indirect activities have included, but are not limited to: Extending partnerships, expanding communication networks, and acquiring additional resources in support of the overall goals and objectives of the proposed project.

Done at Washington, DC, this 18th day of November 2019.
Stephen Censky,
Deputy Secretary, U.S. Department of Agriculture.

[FR Doc. 2019-27568 Filed 12-20-19; 8:45 am]

BILLING CODE 3410-22-P